Proclamation 9359 of October 29, 2015

National Entrepreneurship Month, 2015

By the President of the United States of America

A Proclamation

Since our Nation's founding, our progress has been fueled by an inherent sense of purpose and ingenuity in our people. Americans have more opportunities now than ever before to carry forward this legacy—to create something, to raise capital in creative ways, and to pursue aspirations. During National Entrepreneurship Month, we revisit our roots as a country of dreamers and doers, and we celebrate and support the next generation of American entrepreneurs.

Bold ideas demand bold progress, and my Administration is committed to ensuring ours is a country that encourages and supports those willing to take risks and pioneer innovation. The Affordable Care Act is opening doors of opportunity for America's aspiring entrepreneurs, enabling them to find affordable health insurance through the marketplace and providing them the flexibility they need to steer their own journey forward. To further provide economic security for those seeking to start a business or market their invention, I have signed 18 tax cuts for small businesses since taking office. I also remain committed to net neutrality, because we do not want to lose the Internet's potential to empower innovative startups and unleash the breakthroughs of tomorrow.

In keeping with our goal of fostering economic growth through private-sector collaboration, the Federal Government is accelerating the movement of new technologies from the laboratory to the marketplace, increasing access to research awards for small businesses, making more data open to the public, and catalyzing new industry partnerships in critical fields such as advanced manufacturing and clean energy. And earlier this year, I signed an Executive Order to make the Presidential Innovation Fellows program a permanent component of the Federal Government. This program will bring entrepreneurs, executives, technologists, and other innovators to Washington and help reinvigorate how our Government serves our citizenry.

My Administration is also continuing to expand access to capital, connect mentors, cut red tape, and accelerate innovation through the Startup America initiative. This summer, we hosted the first-ever White House Demo Day, where startup founders of many backgrounds and from many corners of our country came together to showcase their innovations and where we announced major new commitments from investors, companies, universities, and cities to promote inclusive entrepreneurship. And because we understand that jobs in technology that go unfilled are missed opportunities for American workers to find better, higher-earning jobs and for businesses to recruit the talent needed to start and expand in the United States, we launched TechHire. This initiative works with communities and employers on innovative training and placement programs to connect trained workers with entrepreneurial opportunities and well-paying jobs. As we work to secure America's status as the best place on the planet to generate sweeping innovation, we must continue to make it easier for startup hotbeds to emerge across our Nation and for those underrepresented in entrepreneurship to contribute their individual ideas and talents to our collective success.

Fostering a spirit of innovation is important not just for entrepreneurs in the United States, but for consumers and people hoping to start their own businesses around the world. Entrepreneurship builds stronger and more secure communities, empowering people of every gender, race, and background. That is why, this summer, we hosted the 6th annual Global Entrepreneurship Summit in Kenya, a gathering that brought attention to the extraordinary potential and dynamism of Africa, and where we expanded our commitment to supporting entrepreneurs—including young people and women. To spur greater economic growth and set higher standards for trade and investment across the globe, we continue to work toward ensuring the success of the Trans-Pacific Partnership, a trade pact that opens doors to new markets for American entrepreneurs and allows them to compete in more economies.

I have also taken action to fix our Nation's broken immigration system, including measures to encourage more immigrant entrepreneurs to come to America, create jobs, contribute to our economy, and use their talents to help drive our country's progress. The White House Task Force on New Americans is working to highlight the contributions of immigrants and refugees who start a business, and because immigrants are more likely than non-immigrants to start a business, the Task Force is engaging communities to provide these new American entrepreneurs with the tools they need to grow and expand their enterprises.

Ensuring our economy works better for everyone means enabling all our people to make of their lives what they will. By supporting entrepreneurs, we can help ensure our daughters and sons are able to do whatever they set out to accomplish and achieve their highest aspirations. As we celebrate National Entrepreneurship Month and Global Entrepreneurship Week, let us recommit to upholding our founding promise: that no matter who you are or where you come from, with talent, hard work, and dedication, you can make it if you try.

NOW, THEREFORE, I, BARACK OBAMA, President of the United States of America, by virtue of the authority vested in me by the Constitution and the laws of the United States, do hereby proclaim November 2015 as National Entrepreneurship Month. I call upon all Americans to commemorate this month with appropriate programs and activities, and to celebrate November 17, 2015, as National Entrepreneurs' Day.

IN WITNESS WHEREOF, I have hereunto set my hand this twenty-ninth day of October, in the year of our Lord two thousand fifteen, and of the Independence of the United States of America the two hundred and fortieth.

[FR Doc. 2015-28251

Filed 11-2-15; 2:00 pm]

Billing code 3295-F6-P